DEPARTMENT OF AGRICULTURE

Submission for OMB Review; Comment Request

March 18, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplementation Nutrition Assistance Program (SNAP) Employment & Training Study.

OMB Control Number: 0584-NEW.

Summary of Collection: The Supplemental Nutrition Assistance Program (SNAP) serves as a safety net for families who are having difficulty obtaining adequate nutrition. The U.S. Department of Agriculture's (USDA), Food and Nutrition Service (FNS), which administers SNAP, also administers the SNAP Employment and Training (E&T) Program to assist members of households participating in SNAP in gaining skills, training or experience to “increase their ability to obtain regular employment”. The Food and Nutrition Act of 2008 authorizes the USDA to conduct program research and evaluation activities to “implement an employment and training program designed by the State agency and approved by the Secretary for the purpose of assisting members of households participating in the Supplemental Nutrition Assistance Program in gaining skills, training, work, or experience that will increase their ability to obtain regular employment (H.R. 2642, Pub. L. 113-128, Sec. 6(d)(4), p. 34).”

Need and Use of the Information: The study is needed to provide Food and Nutrition Service with information about the characteristics of work registrants, E&T participants, and the providers that serve them. This nationally representative study will identify the characteristics of registrants and participants, the challenges they face and the E&T services available to SNAP participants. The information generated will help FNS understand how these programs serve clients, what participants need to develop their skills, and whether current programs meet clients' needs. This study has three objectives: (1) To provide FNS with a detailed description of the characteristics of SNAP work registrants and SNAP E&T participants; (2) to describe the needs and challenges faced by registrants and participants in finding and retaining employment in the changing economy; and (3) to describe the characteristics of the E&T service providers and the types of services available to participants.

Description of Respondents: Not-for-profit institutions; Individual or households; Business or other for-profit; State, Local or Tribal Government.

Number of Respondents: 5,261.

Frequency of Responses: Reporting: On occasion.

Total Burden Hours: 2,238.

Ruth Brown,
Departmental Information Collection Clearance Officer.

[FR Doc. 2015-06590 Filed 3-20-15; 8:45 am]

BILLING CODE 3410-30-P